DEPARTMENT OF COMMERCE

International Trade Administration

[A-570-918]

Steel Wire Garment Hangers from the People's Republic of China: Final Determination of Sales at Less Than Fair Value

AGENCY: Import Administration, International Trade Administration, Department of Commerce.

DATES: Effective Date: August 14, 2008.

SUMMARY: On March 25, 2008, the Department of Commerce (“Department”) published its preliminary determination of sales at less than fair value (“LTFV”) in the antidumping investigation of steel wire garment hangers (“hangers”) from the People's Republic of China (“PRC”). On April 14, 2008, the Department published its amended preliminary determination. The period of investigation (“POI”) is January 1, 2007, to June 30, 2007. We invited interested parties to comment on our preliminary determination of sales at LTFV. Based on our analysis of the comments we received, we have made changes to our calculations for the mandatory respondents. The final dumping margins for this investigation are listed in the “Final Determination Margins” section below.

FOR FURTHER INFORMATION CONTACT: Irene Gorelik or Julia Hancock, Import Administration, International Trade Administration, U.S. Department of Commerce, 14th Street and Constitution Avenue, NW., Washington, DC 20230; telephone: (202) 482-6905 or (202) 482-1394, respectively.

Final Determination

We determine that hangers from the PRC are being, or are likely to be, sold in the United States at LTFV as provided in section 735 of the Tariff Act of 1930, as amended (“the Act”). The estimated margins of sales at LTFV are shown in the “Final Determination Margins” section of this notice.

SUPPLEMENTARY INFORMATION:

Case History

The Department published its preliminary determination of sales at LTFV on March 25, 2008. See Preliminary Determination of Sales at Less Than Fair Value: Steel Wire Garment Hangers from the People's Republic of China 73 FR 15726 (March 25, 2008) (“Preliminary Determination”). Due to a significant ministerial error, the Department published its amended preliminary determination of sales at LTFV on April 14, 2008. See Steel Wire Garment Hangers from the People's Republic of China: Amended Preliminary Determination of Sales at Less Than Fair Value and Postponement of Final Determination 73 FR 20018 (April 14, 2008) (“Amended Preliminary Determination”). Additionally, the Department postponed the deadline for the final determination by 60 days to August 7, 2008. See id. at 20020-20021. On April 24, 2008, certain separate rate respondents represented by Greenberg Traurig ¹ (“Greenberg Respondents”) filed a timely request for a public hearing. Between May 21, 2008, and June 6, 2008, the Department conducted verifications of Shanghai Wells Hanger Co., Ltd. (“Shanghai Wells”) and the Shaoxing Metal Companies.² See the “Verification” section below for additional information.

¹ These companies are: United Wire Hanger Corporation, Laidlaw Company, Zhejiang Lucky Cloud Hanger Co., Ltd., Shangyu Baoxiang Metal Product Co., Ltd., Shaoxing Dingli Metal Clotheshorse Co., Shaoxing Meideli Metal Hanger Co., Ltd., Shaoxing Shunji Metal Clotheshorse Co., Ltd., and Shaoxing Zhongbao Metal Manufactured Co. Ltd., Shaoxing Liangbao Metal Manufactured Co. Ltd.

² The Shaoxing Metal Companies consist of: Shaoxing Gangyuan Metal Manufactured Co., Ltd. (“Gangyuan”), Shaoxing Andrew Metal Manufactured Co., Ltd. (“Andrew”), Shaoxing Tongzhou Metal Manufactured Co., Ltd. (“Tongzhou”), and Company X. The Department normally does not consider a respondent's supplier's name to be business proprietary information. However, in this instance, counsel for the Shaoxing Metal Companies bracketed this information as business proprietary and the Department did not challenge this treatment. See Memorandum to the File from Julia Hancock, Senior Case Analyst: Program Analysis for the Final Determination of Antidumping Duty Investigation of Steel Wire Garment Hangers from the People's Republic of China: Shaoxing Metal Companies, (August 7, 2008) (“Shaoxing Final Analysis Memo”) for more information regarding the identity of this company; Shaoxing Metal Companies' Request for Collapsing, (February 26, 2008) at 15.

On June 27, 2008, we invited parties to comment on the Department's proposed change to the scope language within the Preliminary Determination. On July 7, 2008, Petitioner ³ and Home Products (Shanghai) Co., Ltd., and Willert Home Products, Inc. (collectively “Willert”) submitted comments regarding the Department's proposed scope language change. Additionally, Willert included a scope clarification request in its comments dated July 7, 2008, which the Department addresses in the “Analysis of Comments Received” and “Scope Modifications” sections below.

³ The Petitioner is M&B Metal Products Company Inc.

Upon the July 3, 2008, release of the second of two verification reports,⁴ we invited parties to comment on the Preliminary Determination. On July 10, 2008, Petitioner, Shanghai Wells, the Shaoxing Metal Companies, and other interested parties filed case briefs. On July 11, 2008, the Department rejected the case brief submitted by the Greenberg Respondents because it contained untimely, new factual information. See the Department's letter to all interested parties dated July 11, 2008. On July 11, 2008, the Greenberg Respondents resubmitted their revised case brief, which the Department also rejected because the untimely, new information had not been properly redacted in its entirety. See the Department's letter to all interested parties dated July 14, 2008. On July 15, 2008, the Greenberg Respondents resubmitted their case brief with the untimely, new information redacted in its entirety. On July 15, 2008, the Shaoxing Metal Companies, Shanghai Wells, and Petitioner filed rebuttal briefs. On July 17, 2008, the Greenberg Traurig Respondents withdrew their request for a public hearing, leaving no public hearing request on the record.

⁴ See Memorandum to the File through Catherine Bertrand, Program Manager, Office 9, from Irene Gorelik, Senior Case Analyst: Verification of the Sales and Factors Response of Shanghai Wells Hanger Co., Ltd. in the Antidumping Investigation of Steel Wire Garment Hangers from the People's Republic of China (“PRC”) (July 1, 2008) (“Shanghai Wells Verification Report”), and Memorandum to the File through Catherine Bertrand, Program Manager, Office 9, from Julia Hancock, Senior Case Analyst: Verification of the Sales and Factors Response of the Shaoxing Metal Companies in the Antidumping Investigation of Steel Wire Garment Hangers from the People's Republic of China (“PRC”), (July 3, 2008) (“Shaoxing Metal Verification Report”).

Analysis of Comments Received

All issues raised in the case and rebuttal briefs by parties to this investigation are addressed in the “Investigation of Steel Wire Garment Hangers from the People's Republic of China: Issues and Decision Memorandum,” dated August 7, 2008 (“Issues and Decision Memorandum”), which is hereby adopted by this notice. A list of the issues which parties raised and to which we respond in the Issues and Decision Memorandum is attached to this notice as an appendix. The Issue and Decision Memorandum is a public document and is on file in the Central Records Unit (“CRU”), Main Commerce Building, Room 1117, and is accessible on the World Wide Web at http://www.trade.gov/ia. The paper copy and electronic version of the memorandum are identical in content.

Changes Since the Preliminary Determination

Based on our analysis of information on the record of this investigation, and comments received from the interested parties, we have made changes to the margin calculations for the Shaoxing Metal Companies and Shanghai Wells. We have revalued several of the surrogate values used in the Preliminary Determination. The values that were modified for this final determination are those for surrogate financial ratios, steel scrap, and the wage rate. For further details see Issues and Decision Memorandum at Comments 3, 6, and 7, and Memorandum to the File from Julia Hancock, through Catherine Bertrand, Program Manager, AD/CVD Operations, Office 9, and James C. Doyle, Director, AD/CVD Operations, Office 9; Steel Wire Garment Hangers from the People's Republic of China: Surrogate Values for the Final Determination, dated August 7, 2008 (“Final Surrogate Value Memo”).

In addition, we have made some company-specific changes since the Preliminary Determination. Specifically, we have incorporated, where applicable, post-preliminary clarifications based on verification and corrected certain clerical errors for Shanghai Wells. We have also applied partial adverse facts available, where applicable, for various findings from verification of both companies. For further details on these company-specific changes, see Issues and Decision Memorandum at Comments 8 and 9.

Scope Modifications

Since the publication of the Preliminary Determination, the Department became concerned that certain language in the scope might create opportunities for circumvention. Therefore, on June 27, 2008, the Department invited interested parties to comment on a proposed change to the scope language. See Letter to All Interested Parties, dated June 27, 2008. As stated above, Willert and Petitioner submitted comments. Specifically, Petitioner stated that it supported the Department's proposed change to the scope of the investigation. Consequently, we are modifying the scope to include language that the Department proposed in its June 27, 2008, letter.

Willert briefly referenced the Department's proposed change to the scope but focused its comments on a scope clarification request regarding its vinyl-dipped steel wire garment hangers, which we address fully in the Issues and Decision Memorandum at Comment 1. We are denying Willert's scope modification request because both the Department and Petitioner remain concerned about the possibility of circumvention under Willert's proposed exclusion. See Issues and Decision Memorandum at Comment 1.

Scope of Investigation

The merchandise that is subject to this investigation is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers. Specifically excluded from the scope of this investigation are wooden, plastic, and other garment hangers that are not made of steel wire. The products subject to this investigation are currently classified under HTSUS subheading 7326.20.0020 and 7323.99.9060.

Although the HTSUS subheading is provided for convenience and customs purposes, the written description of the merchandise is dispositive.

Affiliations

In the Preliminary Determination, the Department determined that, based on the evidence on the record in this investigation and based on the evidence presented in Gangyuan's questionnaire responses, we preliminarily found that Gangyuan is affiliated with Andrew, Tongzhou, and Company X ⁵ pursuant to sections 771(33)(E), (F), and (G) of the Act, based on ownership and common control. See Preliminary Determination, 73 FR at 15729. In addition to being affiliated, we stated that these individual companies have production facilities for similar or identical products that would not require substantial retooling and there is a significant potential for manipulation of production based on the level of common ownership and control, shared management, and an intertwining of business operations. See 19 CFR 351.401(f)(1) and (2). Thus, we also found that they should be considered as a single entity known as the Shaoxing Metal Companies for purposes of this investigation. See 19 CFR 351.401(f).

⁵ Company X is business proprietary information. See Memorandum to the File from Julia Hancock, Senior Case Analyst: Program Analysis for the Final Determination of Antidumping Duty Investigation of Steel Wire Garment Hangers from the People's Republic of China: Shaoxing Metal Companies, (August 7, 2008) (“Shaoxing Final Analysis Memo”) for more information regarding the identity of this company.

No other information has been placed on the record since the Preliminary Determination to contradict the above information upon which we based our finding that these companies constitute a single entity. Therefore, for the final determination, we continue to find that the Shaoxing Metal Companies are a single entity pursuant to sections 771(33)(E), (F), and (G) of the Act, based on ownership and common control. We also continue to determine that they should be considered as a single entity for purposes of this investigation. See 19 CFR 351.401(f).

Use of Facts Available

Section 776(a)(2) of the Act provides that, if an interested party: (A) Withholds information that has been requested by the Department; (B) fails to provide such information in a timely manner or in the form or manner requested, subject to sections 782(c)(1) and (e) of the Act; (C) significantly impedes a proceeding under the antidumping statute; or (D) provides such information but the information cannot be verified; the Department shall, subject to subsection 782(d) of the Act, use facts otherwise available in reaching the applicable determination.

Section 782(c)(1) of the Act provides that if an interested party “promptly after receiving a request from {the Department} for information, notifies {the Department} that such party is unable to submit the information requested in the requested form and manner, together with a full explanation and suggested alternative form in which such party is able to submit the information,” the Department may modify the requirements to avoid imposing an unreasonable burden on that party.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e), disregard all or part of the original and subsequent responses, as appropriate.

Section 782(e) of the Act states that the Department shall not decline to consider information deemed “deficient” under section 782(d) if: (1) The information is submitted by the established deadline; (2) the information can be verified; (3) the information is not so incomplete that it cannot serve as a reliable basis for reaching the applicable determination; (4) the interested party has demonstrated that it acted to the best of its ability; and (5) the information can be used without undue difficulties.

Furthermore, section 776(b) of the Act states that if the Department “finds that an interested party has failed to cooperate by not acting to the best of its ability to comply with a request for information from the administering authority..., the administering authority..., in reaching the applicable determination under this title, may use an inference that is adverse to the interests of that party in selecting from among the facts otherwise available.” See also Statement of Administrative Action (“SAA”) accompanying the Uruguay Round Agreements Act (URAA), H.R. Rep. No. 103-316, Vol. 1 at 870 (1994), reprinted in 1994 U.S.C.C.A.N. 4040, 4199.

Shanghai Wells

For the final determination, in accordance with sections 773(c)(3)(B) and 776(a)(1) of the Act, we have determined that the use of neutral facts available (“FA”) is required for Shanghai Wells's consumption of drawing powder used in the production of subject merchandise as a factor of production rather than an overhead expense, as reported by Shanghai Wells. See Issues and Decision Memorandum at Comment 2. As neutral FA, we are using the public version of the consumption ratio reported by Shaoxing Gangyuan, one of the companies within the single entity, Shaoxing Metal Companies, the other mandatory respondent in this investigation. See Memorandum to the File from Irene Gorelik, Senior Case Analyst: Program Analysis for the Final Determination of Antidumping Duty Investigation of Steel Wire Garment Hangers from the People's Republic of China: Shanghai Wells (August 7, 2008) (“Shanghai Wells Final Analysis Memo”), for further details on the treatment of drawing powder. See also Final Surrogate Value Memo for the surrogate value used to value drawing powder.

Additionally, for the final determination, in accordance with sections 773(c)(3)(B) of the Act, section 776(a)(2)(A), (B) and (D) of the Act, and section 776(b) of the Act, we have determined that the use of adverse facts available (“AFA”) is warranted for Shanghai Wells's unreported consumption of water that is used in its production process. See Issues and Decision Memorandum at Comment 9D; Shanghai Wells Verification Report at 2, 35. As partial AFA, we are using Gangyuan's public version consumption ratios for water, which is the only available consumption ratio on the record. Additionally, in accordance with sections 773(c)(3)(B) of the Act, section 776(a)(2)(A), (B) and (D) of the Act, and section 776(b) of the Act, we have determined that the use of AFA is warranted for Shanghai Wells's unreported consumption of lubricant lard that is used in the production process. See id. To account for Shanghai Wells's lubricant lard, because Gangyuan did not use lubricant lard in the production of subject merchandise and as there is no lubricant lard consumption information on the record, the Department will use Gangyuan's water consumption ratio a second time as a proxy for the lubricant lard. We find this to be appropriate because Shanghai Wells uses two lubricant inputs in the wire rod drawing process, and we are using the only record information on lubricant inputs as the AFA plug for each lubricant input used by Shanghai Wells. Given the limited information on the record, we find this to be a sufficient basis for an adverse inference.

Shaoxing Metal Companies

For the final determination, in accordance with section 776(a)(2)(B) of the Act, we have determined that the use of partial neutral FA is required for the Shaoxing Metal Companies' consumption of water. See Issues and Decision Memorandum at Comment 8D. As partial FA, we are using certain months of reported data during the POI to calculate an average of the Shaoxing Metal Companies' average actual consumption of water. See Memorandum to the File from Julia Hancock, Senior Case Analyst: Program Analysis for the Final Determination of Antidumping Duty Investigation of Steel Wire Garment Hangers from the People's Republic of China: Shaoxing Metal Companies, (August 7, 2008) (“Shaoxing Final Analysis Memo”) for further details on the treatment of water.

Additionally, for the final determination, in accordance with sections 776(a)(2)(A), (B) and (D) of the Act, and section 776(b) of the Act, we have determined that the use of AFA is warranted for the Shaoxing Metal Companies' unverified white paper inputs, brown paper inputs, and steel scrap sales. See Issues and Decision Memorandum at Comment 8E; the Shaoxing Metal Verification Report, at 33-34, 37, and 46-47. As partial AFA for Gangyuan's and Andrew's white paper, we have assigned Tongzhou's highest verified usage ratio of white paper on the record as the usage ratio for Gangyuan's and Andrew's consumption of white paper. Additionally, as partial AFA for the Gangyuan's, Andrew's, and Tongzhou's brown paper, we have assigned the highest usage ratio of brown paper of the three companies on the record as each company's consumption of brown paper. Moreover, as partial AFA for Gangyuan's, Andrew's, and Tongzhou's steel scrap sales, we have not granted them a by-product offset for the final determination. See Shaoxing Final Analysis Memo for further details of the normal value calculation.

Finally, for the final determination, in accordance with sections 776(a)(2)(A), and (B) of the Act, we have determined that the use of partial neutral FA is required for the Shaoxing Metal Companies' direct labor and packing labor because assembly labor was incorrectly included in Gangyuan's and Andrew's packing labor. See Shaoxing Final Analysis Memo; see also the Shaoxing Metal Verification Report, at 43 and Verification Exhibit 17. As partial FA for the Shaoxing Metal Companies' direct labor and packing labor, we have calculated direct labor, which includes assembly labor, using the total number of direct labor hours for April 2007, and calculated packing labor, not including assembly labor, using the total number of packing labor hours for April 2007. See Shaoxing Final Analysis Memo for further details of the normal value calSculation.

Verification

As provided in section 782(i) of the Act, we verified the information submitted by the respondents for use in our final determination. See the Department's verification reports on the record of this investigation in the CRU with respect to Shanghai Wells and the Shaoxing Metal Companies. For both verified companies, we used standard verification procedures, including examination of relevant accounting and production records, as well as original source documents provided by respondents.

Surrogate Country

In the Preliminary Determination, we stated that we had selected India as the appropriate surrogate country to use in this investigation for the following reasons: (1) It is a significant producer of comparable merchandise; (2) it is at a similar level of economic development pursuant to 773(c)(4) of the Act; and (3) we have reliable data from India that we can use to value the factors of production. See Preliminary Determination, 73 FR at 15728-15729. For the final determination, we received no comments and made no changes to our findings with respect to the selection of a surrogate country.

Separate Rates

In proceedings involving NME countries, the Department begins with a rebuttable presumption that all companies within the country are subject to government control and, thus, should be assigned a single antidumping duty deposit rate. It is the Department's policy to assign all exporters of merchandise subject to an investigation in an NME country this single rate unless an exporter can demonstrate that it is sufficiently independent so as to be entitled to a separate rate. See Final Determination of Sales at Less Than Fair Value: Sparklers From the People's Republic of China, 56 FR 20588 (May 6, 1991) (“Sparklers”), as amplified by Notice of Final Determination of Sales at Less Than Fair Value: Silicon Carbide From the People's Republic of China, 59 FR 22585 (May 2, 1994) (“Silicon Carbide”), and Section 351.107(d) of the Department's regulations.

In the Preliminary Determination, we found that Shanghai Wells, the Shaoxing Metal Companies, and certain separate rate applicants who received a separate rate ⁶ (“Separate Rate Recipients”) in the Preliminary Determination demonstrated their eligibility for separate-rate status. For the final determination, we continue to find that the evidence placed on the record of this investigation by Shanghai Wells, the Shaoxing Metal Companies, and the Separate Rate Recipients demonstrate both a de jure and de facto absence of government control, with respect to their respective exports of the merchandise under investigation, and, thus are eligible for separate rate status.

⁶ These companies are: Jiangyin Hongji Metal Products Co., Ltd, Shaoxing Meideli Metal Hanger Co., Ltd., Shaoxing Dingli Metal Clotheshorse Co., Ltd., Shaoxing Liangbao Metal Manufactured Co. Ltd., Shaoxing Zhongbao Metal Manufactured Co. Ltd., Shangyu Baoxiang Metal Manufactured Co. Ltd., Zhejiang Lucky Cloud Hanger Co., Ltd., Pu Jiang County Command Metal Products Co., Ltd., Shaoxing Shunji Metal Clotheshorse Co., Ltd., Ningbo Dasheng Hanger Ind. Co., Ltd., Jiaxing Boyi Medical Device Co., Ltd., Yiwu Ao-Si Metal Products Co., Ltd., and Shaoxing Guochao Metallic Products Co., Ltd.

In the Preliminary Determination, the Department denied a separate rate to Tianjin Hongtong Metal Manufacture Co., Ltd. (“Hongtong”) because it was unable to demonstrate that it had sales of the merchandise under consideration to the United States. We found that Hongtong was a producer and not an exporter of the merchandise under consideration during the POI and, therefore, was not eligible to receive a separate rate in this investigation. See Preliminary Determination, 73 FR at 15730-31. The Department has not received any information from Hongtong contrary to our preliminary finding. Therefore, we continue to find that Hongtong is not eligible to receive a separate rate in this investigation.

Lastly, we are calculating the separate rate based on the simple average of the two mandatory respondents because using a weighted average risks disclosure of business proprietary information. See Fresh Garlic from the People's Republic of China: Final Results and Partial Rescission of the 12th Administrative Review, 73 FR 34251, 34252 (June 17, 2008); Memorandum to the File, from Irene Gorelik, Senior Analyst, Office 9, Import Administration, Subject: Investigation of Steel Wire Garment Hangers from the People's Republic of China: Final Simple-Averaged Margin for Separate Rate Companies, (August 7, 2008) at Attachment I.

The PRC-Wide Rate

In the Preliminary Determination, the Department stated that information on the record of this investigation indicates that there are numerous producers/exporters of hangers in the PRC. As stated in the Preliminary Determination, the Department collected CBP data to select respondents based on imports of hangers classified under HTSUS subheading 7326.20.00.20. See Preliminary Determination, 73 FR at 15731. Furthermore, upon receipt of separate-rates applications, we examined the CBP data and determined that a significant number of exporters of hangers from the PRC during the POI were neither selected for review nor filed separate-rate applications; thus, we determined that PRC exporters of hangers are not active participants in this investigation. Based upon our knowledge of the volume of imports of the merchandise under consideration from the PRC from CBP data, the volume of imports of the merchandise under consideration from Shanghai Wells, the Shaoxing Metal Companies, and the separate-rate applicants, while accounting for a significant share, do not account for all imports into the United States. Therefore, the Department continues to determine that there were PRC producers/exporters of the merchandise under consideration during the POI that did not apply for separate rates, thus establishing that there is a PRC-Wide entity with respect to this product. Therefore, consistent with the presumption of government control, we continue to determine that some exports of subject merchandise are from entities under the control of the PRC-Wide entity. The Department's presumption that these entries were subject to government control has not been rebutted since the Preliminary Determination, thus we continue to determine that these entries should be assessed a single PRC-Wide antidumping duty rate.

As the single PRC-Wide rate, we have taken the simple average of: (A) The weighted-average of the calculated rates for the Shaoxing Metal Companies and Shanghai Wells and (B) a simple average of petition rates based on U.S. prices and normal values within the range of the U.S. prices and normal values calculated for the Shaoxing Metal Companies and Shanghai Wells. This rate applies to all entries of the merchandise under investigation with the exception of those entries from Shanghai Wells, the Shaoxing Metal Companies, and the Separate-Rate Recipients. See Amended Preliminary Determination, 73 FR at 20020.

Final Determination Margins

We determine that the following percentage weighted-average margins exist for the POI:

⁷ The PRC-Wide entity includes Tianjin Hongtong Metal Manufacture Co. Ltd.

Steel Wire Garment Hangers From the PRC—Final Dumping Margins
Exporter & Producer | Weighted-average deposit rate (percent)
Shanghai Wells Hanger Co., Ltd. | 15.44
Shaoxing Metal Companies | 94.06
Jiangyin Hongji Metal Products Co., Ltd | 54.75
Shaoxing Meideli Metal Hanger Co., Ltd. | 54.75
Shaoxing Dingli Metal Clotheshorse Co., Ltd. | 54.75
Shaoxing Liangbao Metal Manufactured Co. Ltd. | 54.75
Shaoxing Zhongbao Metal Manufactured Co. Ltd. | 54.75
Shangyu Baoxiang Metal Manufactured Co. Ltd. | 54.75
Zhejiang Lucky Cloud Hanger Co., Ltd. | 54.75
Pu Jiang County Command Metal Products Co., Ltd. | 54.75
Shaoxing Shunji Metal Clotheshorse Co., Ltd. | 54.75
Ningbo Dasheng Hanger Ind. Co., Ltd. | 54.75
Jiaxing Boyi Medical Device Co., Ltd. | 54.75
Yiwu Ao-Si Metal Products Co., Ltd. | 54.75
Shaoxing Guochao Metallic Products Co., Ltd. | 54.75
PRC-Wide Rate ⁷ | 186.98

Disclosure

We will disclose the calculations performed within five days of the date of publication of this notice to parties in this proceeding in accordance with 19 CFR 351.224(b).

Retroactive Application of Amended Preliminary Determination Cash Deposits

For all entries of subject merchandise entered, or withdrawn from warehouse, for consumption on or after the publication date of the Preliminary Determination, March 25, 2008, and before the publication date of the Amended Preliminary Determination, April 14, 2008, we will instruct CBP to apply the cash deposit rates from the Amended Preliminary Determination. See Issues and Decision Memorandum at Comment 8H.

Continuation of Suspension of Liquidation

We will instruct CBP to continue the suspension of liquidation required by section 735(d)(2) of the Act, of all entries of subject merchandise from Shanghai Wells, the Shaoxing Metal Companies, the Separate-Rate Recipients and the PRC-wide entity entered, or withdrawn from warehouse, for consumption on or after March 25, 2008, the date of publication of the Preliminary Determination. CBP shall continue to require a cash deposit or the posting of a bond equal to the estimated amount by which the normal value exceeds the U.S. price as shown above. See section 735(c)(1)(B)(ii) of the Act. The suspension of liquidation instructions will remain in effect until further notice.

ITC Notification

In accordance with section 735(d) of the Act, we have notified the International Trade Commission (“ITC”) of our final determination of sales at LTFV. As our final determination is affirmative, in accordance with section 735(b)(2) of the Act, within 45 days the ITC will determine whether the domestic industry in the United States is materially injured, or threatened with material injury, by reason of imports or sales (or the likelihood of sales) for importation of the subject merchandise. If the ITC determines that material injury or threat of material injury does not exist, the proceeding will be terminated and all securities posted will be refunded or canceled. See section 735(c)(2) of the Act. If the ITC determines that such injury does exist, the Department will issue an antidumping duty order directing CBP to assess antidumping duties on all imports of the subject merchandise entered, or withdrawn from warehouse, for consumption on or after the effective date of the suspension of liquidation. See id.; section 736 of the Act.

Notification Regarding APO

This notice also serves as a reminder to the parties subject to administrative protective order (“APO”) of their responsibility concerning the disposition of proprietary information disclosed under APO in accordance with 19 CFR 351.305. Timely notification of return or destruction of APO materials or conversion to judicial protective order is hereby requested. Failure to comply with the regulations and the terms of an APO is a sanctionable violation.

This determination and notice are issued and published in accordance with sections 735(d) and 777(i)(1) of the Act.

Dated: August 7, 2008.
David M. Spooner,
Assistant Secretary for Import Administration.

Appendix I—Discussion of the Issues

I. General Issues

Comment 1: Scope

Comment 2: Treatment of Drawing Powder

Surrogate Values

Comment 3: Financial Ratios

Comment 4: Wire Rod Surrogate Value

Comment 5: Coating Powder and Glue Surrogate Values

Comment 6: Wage Rate

Comment 7: Steel Scrap Offset Surrogate Value

Company Specific Comments

Comment 8: Shaoxing Metal Companies ⁸

⁸ The Shaoxing Metal Companies consist of: Shaoxing Gangyuan Metal Manufactured Co., Ltd. (“Gangyuan”), Shaoxing Andrew Metal Manufactured Co., Ltd. (“Andrew”), Shaoxing Tongzhou Metal Manufactured Co., Ltd. (“Tongzhou”), and Company X. The Department normally does not consider a respondent's supplier's name to be business proprietary information. However, in this instance, counsel for the Shaoxing Metal Companies bracketed this information as business proprietary and the Department did not challenge this treatment. See Memorandum to the File from Julia Hancock, Senior Case Analyst: Program Analysis for the Final Determination of Antidumping Duty Investigation of Steel Wire Garment Hangers from the People's Republic of China: Shaoxing Metal Companies, (August 7, 2008) (``Shaoxing Final Analysis Memo'') for more information regarding the identify of this company; Shaoxing Metal Companies' Request for Collapsing, (February 26, 2008) at 15.

A. Total Adverse Facts Available (“AFA”) for the Shaoxing Metal Companies

B. Total AFA for Quantity and Value (“Q&V”) of U.S. Sales

C. Partial AFA for Sales Trace A⁹

⁹ Because of the proprietary information of this sales trace, for further information, please see the Shaoxing Metal Verification Report at 21.

D. Partial AFA for Water

E. Partial AFA for White Paper, Brown Paper, and Steel Scrap Sales

F. Reporting of Wire and Wire Rod

G. Management and Administrative Labor

H. Retroactive Implementation of Amended Preliminary Determination

Comment 9: Shanghai Wells ¹⁰

¹⁰ Shanghai Wells Hanger Co., Ltd. (“Shanghai Wells”).

A. Demurrage Revenue

B. Commission Revenue

C. Wells USA's Indirect Selling Expenses

D. Treatment of Water and Lubricant Lard

E. Treatment of Market Economy (“ME”) Purchase

F. Elimination of Credit Expenses from Constructed Export Price (“CEP”) Profit

G. Sales to Customer X: Export Price (“EP”) or CEP ¹¹

¹¹ The name of Customer X is business proprietary information. See Memorandum to the File from Irene Gorelik, Senior Case Analyst: Program Analysis for the Final Determination of Antidumping Duty Investigation of Steel Wire Garment Hangers from the People's Republic of China: Shanghai Wells, (August 7, 2008) (“Shanghai Wells Final Analysis Memo”) for more information regarding the identity of this customer.

H. Payment Terms

I. Truck Freight and Brokerage

[FR Doc. E8-18851 Filed 8-13-08; 8:45 am]

BILLING CODE 3510-DS-P